DEPARTMENT OF THE TREASURY

United States Mint

Pricing for the 2019 Apollo 11 50th Anniversary Commemorative Coins and Kennedy/Apollo 11 Intaglio Print

AGENCY: United States Mint, Department of the Treasury.

ACTION: Notice.

SUPPLEMENTARY INFORMATION: The United States Mint is announcing pricing for the 2019 Apollo 11 50th Anniversary Commemorative Coins and Kennedy/Apollo 11 Intaglio Prints as follows:

Coin | Regular price
Proof Gold Coin w/Print | 2018 Grid + $19.00.
Proof Silver Dollar w/Print | $78.95.

Products containing gold coins will be priced according to the Pricing of Numismatic and Commemorative Gold and Platinum Products Grid posted at www.usmint.gov.

FOR FURTHER INFORMATION CONTACT: Rosa Matos, Program Manager for Numismatic and Bullion; United States Mint; 801 9th Street NW; Washington, DC 20220; or call 202-354-7500.

Authority: Public Law 114-282.

Dated: August 14, 2019.
David J. Ryder,
Director, United States Mint.

[FR Doc. 2019-17793 Filed 8-16-19; 8:45 am]

BILLING CODE P